DEPARTMENT OF AGRICULTURE

Animal and Plant Health Inspection Service

7 CFR Part 301

[Docket No. APHIS-2006-0105]

Asian Longhorned Beetle; Removal of Quarantined Area in Illinois

AGENCY: Animal and Plant Health Inspection Service, USDA.

ACTION: Affirmation of interim rule as final rule.

SUMMARY: We are adopting as a final rule, without change, an interim rule that amended Asian longhorned beetle regulations by removing the Oz Park area in Cook County, IL, from the list of quarantined areas and removing restrictions on the interstate movement of regulated articles from those areas. We have determined that the Asian longhorned beetle no longer presents a risk of spread from that area and that the quarantine and restrictions are no longer necessary. With that action, there are no longer any areas in Illinois that are quarantined because of the Asian longhorned beetle.

DATES: Effective on July 2, 2007, we are adopting as a final rule the interim rule that was published at 71 FR 40879-40880 on July 19, 2006.

FOR FURTHER INFORMATION CONTACT: Mr. Michael B. Stefan, National Coordinator, Pest Detection and Management Programs, PPQ, APHIS, 4700 River Road Unit 134, Riverdale, MD 20737-1236; (301) 734-7338.

SUPPLEMENTARY INFORMATION:

Background

The regulations in 7 CFR 301.51-1 through 301.51-9 (referred to below as the regulations) restrict the interstate movement of regulated articles from quarantined areas in order to prevent the artificial spread of the Asian longhorned beetle (ALB) into noninfested areas of the United States. Quarantined areas are listed in § 301.51-3 of the regulations.

In an interim rule ¹ effective July 13, 2006, and published in the Federal Register on July 19, 2006 (71 FR 40879-40880, Docket No. APHIS-2006-0105), we amended the regulations in § 301.51-3(c) by removing the entry for Cook County, IL, from the list of quarantined areas.

¹ To view the interim rule, go to http://www.regulations.gov/fdmspublic/component/main?main=DocumentDetail&d=APHIS-2006-0105-0001.

Comments on the interim rule were required to be received on or before September 18, 2006. We did not receive any comments. Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 71 FR 40879-40880 on July 19, 2006.

Done in Washington, DC, this 26th day of June 2007.
Kevin Shea,
Acting Administrator, Animal and Plant Health Inspection Service.

[FR Doc. E7-12754 Filed 6-29-07; 8:45 am]

BILLING CODE 3410-34-P